ENVIRONMENTAL PROTECTION AGENCY

40 CFR Part 52

[GA-49-200232(a); FRL-7244-7]

Approval and Promulgation of Implementation Plans; Georgia: Approval of Revisions to State Implementation Plan

AGENCY: Environmental Protection Agency (EPA).

ACTION: Direct final rule.

SUMMARY: The EPA is approving the State Implementation Plan (SIP) revision submitted by the State of Georgia through the Georgia Environmental Protection Division (GAEPD) on November 17, 1999. The revision pertains to William L. Bonnell's Air Quality Permit. This permit revision went through a thirty day comment period and was the subject of a public hearing on September 8, 1999. No comments were received on the permit revisions. The revised permit became State effective on October 7, 1999.

DATES: This direct final rule is effective September 9, 2002, without further notice, unless EPA receives adverse comment by August 12, 2002. If adverse comment is received, EPA will publish a timely withdrawal of the direct final rule in the Federal Register and inform the public that the rule will not take effect.

ADDRESSES: All comments should be addressed to: Scott Martin at the EPA, Region 4 Air Planning Branch, 61 Forsyth Street, SW., Atlanta, Georgia 30303-8960.

Copies of the State submittal(s) are available at the following addresses for inspection during normal business hours:

Environmental Protection Agency, Region 4, Air Planning Branch, 61 Forsyth Street, SW., Atlanta, Georgia 30303-8960.

Air Protection Branch, Georgia Environmental Protection Division, Georgia Department of Natural Resources, 4244 International Parkway, Suite 120, Atlanta, Georgia 30354. Telephone (404) 363-7000.

FOR FURTHER INFORMATION CONTACT: Scott Martin 404-562-9036. E-mail: martin.scott@epa.gov.

SUPPLEMENTARY INFORMATION:

I. Background

On November 17, 1999, the GAEPD submitted revisions to the Georgia SIP pertaining to William L. Bonnell's Air Quality Permit No. 3354-038-6686-O. This permit is a nitrogen oxide reasonably available control technology (NOX RACT) permit. Conditions 17-30 were approved by the EPA on March 18, 1999 (see 64 FR 13348). In today's action EPA is approving revisions to conditions 17 and 22, and the addition of new conditions 31 and 32.

II. Analysis of State's Submittal

The revised conditions read as follows:

#17. The Permittee shall burn natural gas exclusively for all fuel burning equipment covered by this Permit during the months of May through September of each year, except during times of interruption of the natural gas supply or during emergency conditions. During such times, the Permittee may burn liquid propane gas (LPG) as an alternative fuel.

#22. The Permittee shall conduct, or cause to be conducted, on an annual basis, on the No. 5 furnace, burner tunings to optimize the burner fuel/air ratio and to establish the optimum operating point which generates the greatest decrease in NOX concentration (corrected to 3 percent oxygen) while maintaining a safe level of carbon monoxide (CO) in the exhaust gases.

The new conditions read as follows:

#31. The Permittee shall not operate the No. 6 furnace at an excess air of greater than 10 percent.

#32. The Permittee shall retain records of all LPG burned during the months of May through September. Said records shall include the date, gallons burned, and the reason for LPG as opposed to natural gas. The records shall be kept in a log suitable for inspection and/or submittal to the Division, and shall be maintained for 5 years from the date of creation.

III. Final Action

EPA is approving the aforementioned changes to the Georgia SIP because they are consistent with the Clean Air Act and Agency requirements.

The EPA is publishing this rule without prior proposal because the Agency views this as a noncontroversial submittal and anticipates no adverse comments. However, in the proposed rules section of this Federal Register publication, EPA is publishing a separate document that will serve as the proposal to approve the SIP revision should adverse comments be filed. This rule will be effective September 9, 2002, without further notice unless the Agency receives adverse comments by August 12, 2002.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on September 9, 2002, and no further action will be taken on the proposed rule. Please note that if we receive adverse comment on an amendment, paragraph, or section of this rule and if that provision may be severed from the remainder of the rule, we may adopt as final those provisions of the rule that are not the subject of an adverse comment.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 9, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Lead, Nitrogen dioxide, Ozone, Particulate matter, Reporting and recordkeeping requirements, Sulfur oxides, Volatile organic compounds.

Dated: June 28, 2002.
Winston A. Smith,
Acting Regional Administrator, Region 4.

PART 52—[AMENDED]

1. The authority citation for part 52 continues to read as follows:

Authority: 42 U.S.C. 7401 et seq.

Subpart L—Georgia

2. a. In the table in § 52.570(d), the following entries are revised: William L. Bonnell Co.

The revision reads as follows:

§ 52.570 Identification of plan.

* * * * *

(d) * * *

EPA Approved Georgia Source—Specific Requirements
Name of source | Permit No. | State effective date | EPA approval date | Comments
* * * * * * *
William L. Bonnell | 3354-038-O conditions 17 through 32 | 10/7/99 | 07/11/02 [and FR Cite] |
* * * * * * *

[FR Doc. 02-17455 Filed 7-10-02; 8:45 am]

BILLING CODE 6560-50-P